DEPARTMENT OF VETERANS AFFAIRS

Veterans and Community Oversight and Engagement Board, Notice of Meeting

The Department of Veterans Affairs (VA) gives notice under the Federal Advisory Committee Act the Veterans and Community Oversight and Engagement Board will meet on January 9-10, 2019. Details on times and locations for meetings are contained below. The meetings are open to the public.

The Board was established by the West Los Angeles Leasing Act of 2016 on September 29, 2016. The purpose of the Board is to provide advice and make recommendations to the Secretary of Veterans Affairs on: Identifying the goals of the community and Veteran partnership; improving services and outcomes for Veterans, members of the Armed Forces, and the families of such Veterans and members; and on the implementation of the Draft Master Plan approved by the Secretary on January 28, 2016, and on the creation and implementation of any successor master plans.

On Wednesday, January 9, 2019, the Board will convene an open session at 11301 Wilshire Boulevard, Building 500, Room 1281, Los Angeles, CA from 8:30 a.m. to 5:30 p.m. The agenda will include briefings from senior VA officials, to include training on federal advisory committees and ethics; and guidance to the Board members on their roles and responsibilities. The Board will receive an information briefing from the Greater Los Angeles Draft Master Plan Integrated Project Team, and an introductory information briefing from the Principal Developer recently selected by VA. A public comment session will occur from 4:00 p.m. to 5:00 p.m. followed by a wrap up of Public Comment session.

On Thursday, January 10, 2019, the Board will convene an open session at the same location as shown above from 8:00 a.m. to 4:30 p.m. The Board will receive additional briefings on the CHIP IN Act, Purple Line Expansion, and Breitburn/DAV Agreement. The Board's subcommittees on Outreach and Community Engagement with Services and Outcomes, and Master Plan with Services and Outcomes will meet to finalize reports on activities since the last meeting, followed by an out brief to the full Committee and update on draft recommendations considered for forwarding to the SECVA. Individuals wishing to make public comments should contact Chihung Szeto at (562) 708-9959 or at Chihung.Szeto@va.gov and are requested to submit a 1-2-page summary of their comments for inclusion in the official meeting record. In the interest of time, each speaker will be held to a 5-minute time limit.

Any member of the public seeking additional information should contact Mr. Eugene W. Skinner Jr. at (202) 631-7645 or at Eugene.Skinner@va.gov.

Dated: December 19, 2018.
LaTonya L. Small,
Federal Advisory Committee Management Officer.

[FR Doc. 2018-27923 Filed 12-21-18; 8:45 am]

BILLING CODE P